DEPARTMENT OF AGRICULTURE

Forest Service

Information Collection; Significant Cave Nomination

AGENCY: Forest Service, USDA.

ACTION: Notice; request for comment.

SUMMARY: In accordance with the Paperwork Reduction Act of 1995, the Forest Service is seeking comments from all interested individuals and organizations on a new information collection, Significant Cave Nominations under the Federal Cave Resources Protection Act (FCRPA).

DATES: Comments must be received in writing on or before October 19, 2020 to be assured of consideration. Comments received after that date will be considered to the extent practicable.

ADDRESSES: Written comments concerning this notice may be submitted via mail to Minerals and Geology Management, Attn: Significant Cave Nomination, 1400 Independence Avenue, Mail Stop 1126, Washington, DC 20250.

FOR FURTHER INFORMATION CONTACT: Cheryl Nabahe, Minerals and Geology Management, 202-578-2680, by email at cheryl.nabahe@usda.gov. Individuals who use telecommunication devices for the deaf (TDD) may call the Federal Relay Service (FRS) at 1-800-877-8339 between 8 a.m. and 8 p.m., Eastern Time, Monday through Friday.

SUPPLEMENTARY INFORMATION: Title: Significant Cave Nomination.

OMB Number: 0596-New.

Expiration Date of Approval: Not applicable, new request.

Type of Request: New.

Abstract: The information covered in this request applies to caves on Federal lands administered by the Department of Agriculture, U.S. Forest Service.

The U.S. Forest Service, in accordance with the FCRPA, collects information from appropriate private sector interests, including “cavers,” in order to update a list of significant caves that are under the jurisdiction of the agencies listed above. The U.S. Forest Service also processes requests for confidential information regarding significant caves. While the FCRPA does not define what “significant” means, it does require the Secretaries of Agriculture and Interior to issue regulations that define criteria for identification of significant caves. The criteria can be found at 36 Code of Federal Regulation 290.3. This information enables the U.S. Forest Service to comply with the FCRPA (16 U.S.C. 4301-4310).

Estimate of Annual Burden per Response: 11 hours.

Type of Respondents: Individuals and Households.

Estimated Annual Number of Respondents: 10.

Estimated Annual Number of Responses per Respondent: One.

Estimated Total Annual Burden on Respondents: 110.

Comment is Invited:

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Jacqueline Emanuel,
Acting Associate Deputy Chief, National Forest System.

[FR Doc. 2020-18174 Filed 8-18-20; 8:45 am]

BILLING CODE 3411-15-P